DEPARTMENT OF COMMERCE

National Oceanic and Atmospheric Administration

RIN 0648-XE63

Endangered Species and Marine Mammals; File No. 10014

AGENCY: National Marine Fisheries Service (NMFS), National Oceanic and Atmospheric Administration (NOAA), Commerce.

ACTION: Notice; issuance of permit.

SUMMARY: Notice is hereby given that the New Jersey Department of Environmental Protection (NJDEP), Division of Science, Research and Technology, P.O. Box 409, Trenton, NJ 08625-0409 has been issued a permit to take marine mammals and sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Patrick Opay or Kate Swails, (301)713-2289.

SUPPLEMENTARY INFORMATION: On July 16, 2007, notice was published in the Federal Register (72 FR 38825) that a request for a scientific research permit to take sea turtle and marine mammals species had been submitted by the above-named organization. The requested permit has been issued under the authority of the Endangered Species Act of 1973, as amended (ESA; 16 U.S.C. 1531 et seq.) and the regulations governing the taking, importing, and exporting of endangered and threatened species (50 CFR parts 222-226), the Marine Mammal Protection Act of 1972, as amended (16 U.S.C. 1361 et seq.), and the regulations governing the taking and importing of marine mammals (50 CFR part 216).

The permit authorizes the permit holder to conduct research to elucidate the distribution and abundance of baleen whales, odontocete whales, pinnipeds, and sea turtles. Research will include take by survey approach during shipboard and aircraft transect surveys. The study area includes U.S. waters offshore of New Jersey out to a distance of 20 nautical miles. The permit is issued for five years.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit (1) was applied for in good faith, (2) will not operate to the disadvantage of such endangered or threatened species, and (3) is consistent with the purposes and policies set forth in section 2 of the ESA.

Dated: December 20, 2007.
Patrick Opay,
Acting Chief, Permits, Conservation and Education Division, Office of Protected Resources, National Marine Fisheries Service.

[FR Doc. E7-25249 Filed 12-27-07; 8:45 am]

BILLING CODE 3510-22-S